DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for Tuesday, June 27, 2006, starting at 11 a.m. Eastern Daylight Time. Arrange for oral presentations by June 19, 2006.

ADDRESSES: Federal Aviation Administration, 800 Independence Ave., SW., Room 810, Washington, DC 20591.

FOR FURTHER INFORMATION CONTACT: John Linsenmeyer, Office of Rulemaking, ARM-207, FAA, 800 Independence Avenue, SW., Washington, DC 20591, Telephone (202) 267-5174, FAX (202) 267-5075, or e-mail at john.linsenmeyer@faa.gov.

SUPPLEMENTARY INFORMATION: Pursuant to section 10(a)(2) of the Federal Advisory Committee Act (Pub. L. 92-463; 5 U.S.C. app. III), notice is given of an ad hoc ARAC meeting to be held June 27, 2006 at the Federal Aviation Administration, 800 Independence Ave., Room 810, Washington, DC. The meeting/teleconference is being held to consider the report on recommended guidance for the Aging Airplane Safety Rule from the Airworthiness Assurance Working Group (AAWG). This ad hoc TAE meeting is necessary because the report from the AAWG is a critical part of FAA's effort to develop new guidance to support the Aging Airplane Safety Rule, issued January 25, 2005.

The agenda will include:

• Opening Remarks.

• AAWG Report.

Attendance is open to the public, but will be limited to the availability of meeting room space. Please confirm your attendance with the person listed in the FOR FURTHER INFORMATION CONTACT section no later than June 19, 2006. Please provide the following information: Full legal name, country of citizenship, and name of your industry association, or applicable affiliation. If you are attending as a public citizen, please indicate so.

For persons participating domestically by telephone, the call-in number is (202) 366-3920; the Passcode is “1888.” To insure that sufficient telephone lines are available, please notify the person listed in the FOR FURTHER INFORMATION CONTACT section of your intent to participate by telephone by June 19. Anyone calling from outside the Washington, DC metropolitan area will be responsible for paying long-distance charges.

The public must make arrangements by June 19, 2006, to present oral statements at the meeting. Written statements may be presented to the committee at any time by providing 25 copies to the Assistant Executive Director for Transport Airplane and Engine Issues or by providing copies at the meeting. Copies of the document to be presented to ARAC for decision by the FAA may be made available by contacting the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC on May 17, 2006.
Tony F. Fazio,
Director, Office of Rulemaking.

[FR Doc. E6-8427 Filed 5-31-06; 8:45 am]

BILLING CODE 4910-13-P